DEPARTMENT OF DEFENSE

Office of the Secretary

Membership of the Performance Review Board

AGENCY: Office of the Secretary (OSD), Department of Defense (DoD).

ACTION: Notice of board membership.

SUMMARY: This notice announces the appointment of the Department of Defense, Fourth Estate, Performance Review Board (PRB) members, to include the Joint Staff, Defense Field Activities, the U.S. Court of Appeals for the Armed Forces and the following Defense Agencies: Defense Advance Research Projects Agency, Defense Contract Management Agency, Defense Commissary Agency, Defense Security Cooperation Agency, Defense Legal Services Agency, Defense Logistics Agency, Defense Threat Reduction Agency, Missile Defense Agency, and Pentagon Force Protection Agency. The publication of PRB membership is required by 5 U.S.C. 4314(c)(4).

The PRB shall provide fair and impartial review of Senior Executive Service and Senior Professional performance appraisals and make recommendations regarding performance ratings and performance awards to the Deputy Secretary of Defense.

DATES: Effective Date: September 16, 2011.

FOR FURTHER INFORMATION CONTACT: Michael L. Watson, Assistant Director for Executive and Political Personnel, Washington Headquarters Services, Office of the Secretary of Defense, (703) 693-8373.

SUPPLEMENTARY INFORMATION: In accordance with 5 U.S.C. 4314(c)(4), the following executives are appointed to the Office of the Secretary of Defense PRB with specific PRB panel assignments being made from this group. Executives listed will serve a one-year renewable term, effective September 16, 2011.

Office of the Secretary of Defense

Chairperson

Christine Condon

PRB Panel Members
Ahmed, Sajeel | Liotta, Jay
Anderson, Gretchen | McFarland, Katharina
Bexfield, James | McGrath, Elizabeth
Bradley, Leigh | Middleton, Allen
Bunn, Brad | Milks, Thomas
Cabrera, Louis | Morgan, Timothy
Cofer, Jonathan | Pennett, John
Conklin, Pamela | Peters, Paul
Durand, Shari | Pontius, Ronald
Ewell, Webster | Rogers, Angela
France, Joyce | Russell, James
Frothingham, Edward | Shaffer, Alan
Hinkle-Bowles, Stephanie | Snavely-Dixon, Mary
Hollis, Caryn | Stein, Joseph
Hopkins, Arthur | Wennergren, David
James, John Jr. | Wright, Garland
Koffsky, Paul | Wright, Jessica
Kozemchak, Paul | Yarwood, Susan

Dated: September 26, 2011.
Aaron Siegel,
Alternate OSD Federal Register Liaison Officer, Department of Defense.

[FR Doc. 2011-25043 Filed 9-28-11; 8:45 am]

BILLING CODE 5001-06-P